DEPARTMENT OF COMMERCE

International Trade Administration

[C-533-898; C-557-822]

Utility Scale Wind Towers from India and Malaysia: Postponement of Preliminary Determinations in the Countervailing Duty Investigations

AGENCY: Enforcement and Compliance, International Trade Administration, Department of Commerce.

DATES: Applicable: December 28, 2020.

FOR FURTHER INFORMATION CONTACT: Melissa Kinter at (202) 482-1413 (India) and Nathan James at (202) 482-5305 (Malaysia), AD/CVD Operations, Enforcement and Compliance, International Trade Administration, U.S. Department of Commerce, 1401 Constitution Avenue NW, Washington, DC 20230.

SUPPLEMENTARY INFORMATION:

Background

On November 9, 2020, the Department of Commerce (Commerce) initiated the countervailing duty (CVD) investigations of imports of utility scale wind towers from India and Malaysia.¹ Currently, the preliminary determinations are due no later than January 13, 2021.

¹ See Utility Scale Wind Towers from India and Malaysia: Initiation of Countervailing Duty Investigations, 85 FR 73019 (November 16, 2020).

Postponement of Preliminary Determinations

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny it.

On December 4, 2020, the Wind Tower Trade Coalition (the petitioner) submitted timely requests that Commerce postpone the preliminary CVD determinations.² The petitioner stated that it requests postponement because additional time is needed to collect the necessary information for determining the most accurate possible CVD subsidy rates.³

² See Petitioner's Letters, “Utility Scale Wind Towers from India: Request for Extension of Preliminary Determination Deadline,” dated December 4, 2020 (India Postponement Request); and “Utility Scale Wind Towers from Malaysia: Request for Extension of Preliminary Determination Deadline,” dated December 4, 2020 (Malaysia Postponement Request).

³ See India Postponement Request at 2; and Malaysia Postponement Request at 2.

In accordance with 19 CFR 351.205(e), the petitioner has stated the reasons for requesting a postponement of the preliminary determinations, and Commerce finds no compelling reason to deny the requests. Therefore, in accordance with section 703(c)(1)(A) of the Act, Commerce is postponing the deadline for the preliminary determinations to no later than 130 days after the date on which these investigations were initiated, i.e., March 19, 2021. Pursuant to section 705(a)(1) of the Act and 19 CFR 351.210(b)(1), the deadline for the final determinations of these investigations will continue to be 75 days after the date of the preliminary determinations.

This notice is issued and published pursuant to section 703(c)(2) of the Act and 19 CFR 351.205(f)(1).

Dated: December 17, 2020.
Jeffrey I. Kessler,
Assistant Secretary for Enforcement and Compliance.

[FR Doc. 2020-28595 Filed 12-23-20; 8:45 am]

BILLING CODE 3510-DS-P